DEPARTMENT OF LABOR

Employment and Training Administration

Workforce Investment Act: Native American Employment and Training Council

AGENCY: Employment and Training Administration, U.S. Department of Labor.

ACTION: Cancellation notice of meeting.

SUMMARY: The following Federal Advisory Committee Act meeting has been cancelled. No earlier announcement of the cancellation was possible.

DATES: The meeting previously scheduled to convene on November 5-6, 2014, has been cancelled and will be re-scheduled at a later date. This notice was published in the Federal Register on September 10, 2014, Volume 79, Number 175, page 53787.

FOR FURTHER INFORMATION CONTACT: Ms. Athena R. Brown, Designated Federal Officer, Division of Indian and Native American Programs, Employment and Training Administration, U.S. Department of Labor, Room S-4209, 200 Constitution Avenue NW., Washington, DC 20210. Telephone number (202) 693-3737 (VOICE) (this is not a toll-free number).

Portia Wu,
Assistant Secretary, Employment and Training Administration.

[FR Doc. 2014-26168 Filed 11-3-14; 8:45 am]

BILLING CODE 4501-FR-P